Title 3—

The President

Proclamation 7673 of May 2, 2003

Jewish Heritage Week, 2003

By the President of the United States of America

A Proclamation

The extraordinary heritage of Jewish Americans reflects the strength and spirit of our Nation. Their deep family and community ties and strong religious traditions exemplify America's cultural diversity. Jewish Heritage Week provides an opportunity to recognize the contributions of Jewish Americans to our country and to celebrate their commitment to faith, family, and freedom.

The Jewish people began their search for freedom more than 3,000 years ago. From the struggle of the Exodus, to the miracle of the Maccabees, to the horrors of the Holocaust, to the creation of the democratic State of Israel, Jews have faced and survived many challenges. Jews draw on their faith to provide hope for the future.

For centuries, Jews have immigrated to the United States to realize their dreams and enjoy the blessings of religious tolerance and individual liberty. Today, Jewish Americans play an important role in the success and growth of our country. Their accomplishments in education, industry, science, art, literature, and dozens of other fields have strengthened our Nation and enriched our culture.

Throughout their history, Jewish Americans have demonstrated that goodness can overcome evil. Guided by moral principles, they bring to our Nation a rich heritage that recognizes the dignity of every citizen and the possibilities of every life. Countless Jewish charitable organizations are helping serve the men, women, and children across our country who are in need. Their works of kindness and mercy help to build a more generous and compassionate Nation.

During this week, we also recognize the many Jewish Americans serving in our Armed Forces who are working to rid the world of terror and bring freedom and justice to the oppressed. Every generation of Americans must rise to meet its own challenges, and this generation of Jewish Americans is standing strong to defend our freedoms and help make America a land of opportunity for all.

NOW, THEREFORE, I, GEORGE W. BUSH, President of the United States of America, by virtue of the authority vested in me by the Constitution and laws of the United States, do hereby proclaim May 4 through May 11, 2003, as Jewish Heritage Week. I urge all Americans to learn more about the rich history of Jewish Americans and to celebrate their contribution to our cultural diversity.

IN WITNESS WHEREOF, I have hereunto set my hand this second day of May, in the year of our Lord two thousand three, and of the Independence of the United States of America the two hundred and twenty-seventh.

B

[FR Doc. 03-11522

Filed 5-6-03; 8:45 am]

Billing code 3195-01-P